DEPARTMENT OF HOUSING AND URBAN DEVELOPMENT

[Docket No. FR-5311-N-02]

Notice of Availability: Notice of Funding Availability (NOFA) for American Recovery and Reinvestment Act Capital Fund Recovery Competition Grants; Corrections, Changes, and Clarifications

AGENCY: Office of the Assistant Secretary for Public and Indian Housing, HUD.

ACTION: Notice.

SUMMARY: On May 7, 2009, HUD posted on its website its Notice of Funding Availability (NOFA) for HUD's American Recovery and Reinvestment Act Capital Fund Recovery Competition (CFRC) Grants. Through this document, HUD announces that it has posted on its Web site a revised NOFA that corrects, changes and clarifies a number of criteria established in the document posted on May 7, 2009. The corrections, changes, and clarifications to the NOFA include, among other items, the following: adding threshold funding caps in Categories 1, 2 and 3 for public housing agencies (PHAs) designated as High Performers; adding a rating factor on High Performer status to Category 4; amending the Capacity threshold requirement relating to the Capital Fund; clarifying the threshold requirement of Category 2, Public Housing Transformation, that deals with the census tract and the concentration of poverty; adding definitions of leverage and match and adding tie-breaking criteria based on leverage and match; amending the leverage ratio criteria in Category 1 required for Round 1 consideration; amending the Category 3 threshold requirement to require that any demolition and/or disposition applications had to be submitted to HUD no later than the date of the publication of the revised NOFA; and clarifying certain other Category 4 rating factors and funding limits. Please see the revised NOFA document for all the corrections, changes, and clarifications made. To permit applicants time to prepare applications that take into account these and other changes incorporated in the revised NOFA, HUD is revising the application deadline dates for each funding category: For Threshold-Based applications (Categories 1, 2 and 3), the Department will assign the first Ordinal on July 6, 2009; but will begin accepting applications on June 22, 2009. For Rated and Ranked applications (Category 4), the deadline date for applications is July 29, 2009, but HUD will begin accepting applications on June 22, 2009. The NOFA which reflects these changes, corrections and clarifications is available on the HUD Web site at: http://www.hud.gov/recovery (which connects to the Office of Capital Improvements Web site, http://www.hud.gov/offices/pih/programs/ph/capfund/ocir.cfm).

FOR FURTHER INFORMATION CONTACT: If you have a question or need a clarification, you may contact the Office of Capital Improvements by sending an email message to PIHOCI@hud.gov. Please see http://www.hud.gov/offices/pih/programs/ph/capfund/ocir.cfm, which can be accessed from http://www.hud.gov/recovery/, for additional information.

Dated: June 3, 2009.
Dominique G. Blom,
Deputy Assistant Secretary for Public Housing Investments.

[FR Doc. E9-13525 Filed 6-5-09; 11:15 am]

BILLING CODE 4210-67-P